COMMITTEE FOR PURCHASE FROM PEOPLE WHO ARE BLIND OR SEVERELY DISABLED

Procurement List; Additions and Deletions

AGENCY: Committee for Purchase from People Who Are Blind or Severely Disabled.

ACTION: Additions to and deletions from Procurement List.

SUMMARY: This action adds to the Procurement List products and services to be furnished by nonprofit agencies employing persons who are blind or have other severe disabilities, and deletes from the Procurement List a service previously furnished by such agencies.

EFFECTIVE DATE: November 17, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION:

Additions

On November 23, 2001, June 21, July 26, August 16, and August 23, 2002, the Committee for Purchase From People Who Are Blind or Severely Disabled published notice (66 FR 58712, 67 FR 42235, 48870, 53561, and 54629) of proposed additions to the Procurement List. After consideration of the material presented to it concerning capability of qualified nonprofit agencies to provide the products and services and impact of the additions on the current or most recent contractors, the Committee has determined that the products and services listed below are suitable for procurement by the Federal Government under 41 U.S.C. 46-48c and 41 CFR 51-2.4. I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

Accordingly, the following products and services are added to the Procurement List:

Products

Product/NSN: Paper, Copy, 50% PCW,

7530-00-NIB-0644,

7530-00-NIB-0645,

7530-00-NIB-0646,

7530-00-NIB-0647.

NPA: Louisiana Association for the Blind, Shreveport, Louisiana.

Contract Activity: Office Supplies & Paper Products Acquisition Center, New York, New York.

Product/NSN: Rayon Deck Mop, Refill, M.R. 1028, Cotton Deck Mop, Refill, M.R. 1029.

NPA: Arizona Industries for the Blind, Phoenix, Arizona.

NPA: Mississippi Industries for the Blind, Jackson, Mississippi.

NPA: New York City Industries for the Blind, Brooklyn, New York.

Contract Activity: Defense Commissary Agency (DeCA), Ft. Lee, Virginia.

Services

Service Type/Location: Base Supply Center, U.S. Army Combined Arms Center & Fort Leavenworth, Fort Leavenworth, Kansas.

NPA: Envision, Inc., Wichita, Kansas.

Contract Activity: U.S. Army Combined Arms Center & Fort Leavenworth.

Service Type/Location: Base Supply Center, U.S. Army Maneuver Support Center, Fort Leonard Wood, Missouri.

NPA: Alphapointe Association for the Blind, Kansas City, Missouri.

Contract Activity: U.S. Army Maneuver Support Center, Fort Leonard Wood, Missouri.

Service Type/Location: Grounds Maintenance, Fort Douglas, Cemetery, Salt Lake City, Utah.

NPA: Community Foundation for the Disabled, Inc., Salt Lake City, Utah.

Contract Activity: U.S. Army, 96th Regional Support Command, Salt Lake City, Utah.

Service Type/Location: Office Supply Store, Herbert Hoover Building, Washington, DC.

NPA: Columbia Lighthouse for the Blind, Washington, DC.

Contract Activity: Department of Commerce, Washington, DC.

Deletions

I certify that the following action will not have a significant impact on a substantial number of small entities. The major factors considered for this certification were:

1. The action may not result in any additional reporting, recordkeeping or other compliance requirements for small entities other than the small organizations that will furnish the service to the Government.

2. The action may result in authorizing small entities to furnish the service to the Government.

3. There are no known regulatory alternatives which would accomplish the objectives of the Javits-Wagner-O'Day Act (41 U.S.C. 46-48c) in connection with the service deleted from the Procurement List.

After consideration of the relevant matter presented, the committee has determined that the service listed below is no longer suitable for procurement by the Federal Government under 41 U.S.C. 46-48c and 41 CFR 51-2.4.

Accordingly, the following service is deleted from the Procurement List:

Service

Service Type/Location: Janitorial/Grounds Maintenance, Nininger U.S. Army Reserve Center, Fort Lauderdale, Florida.

NPA: Goodwill Industries of Broward County, Inc., Ft. Lauderdale, Florida.

Contract Activity: U.S. Army, 81st Regional Support Command.

Sheryl D. Kennerly,
Director, Information Management.

[FR Doc. 02-26595 Filed 10-17-02; 8:45 am]

BILLING CODE 6353-01-P